FEDERAL COMMUNICATIONS COMMISSION

47 CFR Part 73

[MB Docket No. 22-117; RM-11923; DA 22-1231; FR ID 117280]

Television Broadcasting Services Great Falls, Montana

AGENCY: Federal Communications Commission.

ACTION: Final rule.

SUMMARY: On March 10, 2022, the Media Bureau, Video Division (Bureau) issued a Notice of Proposed Rulemaking (NPRM) in response to a petition for rulemaking filed by Scripps Broadcasting Holdings LLC (Petitioner), the licensee of KRTV(TV) (Station), channel 7, Great Falls, Montana, requesting the substitution of channel 22 for channel 7 at Great Falls in the Table of Allotments. For the reasons set forth in the Report and Order referenced below, the Bureau amends FCC regulations to substitute channel 22 for channel 7 at Great Falls.

DATES: Effective December 29, 2022.

FOR FURTHER INFORMATION CONTACT: Joyce Bernstein, Media Bureau, at (202) 418-1647 or Joyce.Bernstein@fcc.gov.

SUPPLEMENTARY INFORMATION: The proposed rule was published at 87 FR 16157 on March 22, 2022. The Petitioner filed comments in support of the petition reaffirming its commitment to apply for channel 22. No other comments were filed.

The Report and Order substitutes channel 22 for channel 7 at Great Falls, Montana. According to the Petitioner, it has received many complaints from viewers unable to receive a reliable signal on VHF channel 7, and the Commission has recognized that VHF channels have certain characteristics that pose challenges for their use in providing digital television service. The Engineering Statement provided with the Petition confirmed that the proposed channel 22 contour would continue to reach virtually all of the population within the Station's current service area and fully cover the city of Great Falls. An analysis using the Commission's TVStudy software tool indicates that KRTV's move from channel 7 to channel 22 is predicted to create a small area where 554 persons are predicted to lose service. The loss area, however, is partially overlapped by the noise limited contour of other Scripps owned CBS affiliated stations. Once those other sources of CBS programming are factored into the loss analysis, the new loss area that would be created by the proposed channel substitution would contain only 255 persons, which is a level of service loss the Commission considers to be de minimis. Concurrence from the Canadian government was required and has been obtained.

This is a synopsis of the Commission's Report and Order, MB Docket No. 22-117; RM-11923; DA 22-1231, adopted November 29, 2022, and released November 29, 2022. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of Allotments, under “Montana”, by revising the entry for “Great Falls” to read as follows:

§ 73.622 Digital television table of allotments.

* * * * *

(j) * * *

Community | Channel No.
* * * * *
MONTANA
* * * * *
Great Falls | 8, 17, * 21, 22, 26
* * * * *

[FR Doc. 2022-28275 Filed 12-28-22; 8:45 am]

BILLING CODE 6712-01-P